DEPARTMENT OF COMMERCE

National Oceanic and Atmospheric Administration

Evaluation of Rookery Bay National Estuarine Research Reserve

AGENCY: Office for Coastal Management (OCM), National Ocean Service (NOS), National Oceanic and Atmospheric Administration (NOAA), Department of Commerce (DOC).

ACTION: Notice of public meeting and request for public comment.

SUMMARY: The National Oceanic and Atmospheric Administration (NOAA), Office for Coastal Management will hold a public meeting and is soliciting comment for the performance evaluation of the Rookery Bay National Estuarine Research Reserve.

DATES: Rookery Bay National Estuarine Research Reserve Evaluation: The public meeting will be held on Wednesday September 25, 2019, and written comments must be received on or before Friday, October 4, 2019.

For the specific date, time, and location of the public meetings, see SUPPLEMENTARY INFORMATION.

ADDRESSES: You may submit comments on the reserve by any of the following methods:

Public Meeting and Oral Comments: A public meeting will be held in Naples, Florida for the Rookery Bay Reserve. For the specific location, see SUPPLEMENTARY INFORMATION.

Written Comments: Please direct written comments to Ralph Cantral, Evaluator, NOAA Office for Coastal Management, 2234 S Hobson Avenue, Charleston, South Carolina or via email to Ralph.Cantral@noaa.gov. Comments that the Office for Coastal Management receives are considered part of the public record and may be publicly accessible. Any personal identifying information (e.g., name, address) submitted voluntarily by the sender may also be publicly accessible. NOAA will accept anonymous comments.

FOR FURTHER INFORMATION CONTACT: Ralph Cantral, Evaluator, NOAA Office for Coastal Management, 2234 S Hobson Avenue, Charleston, South Carolina via email to Ralph.Cantral@noaa.gov, or by phone at (843) 740-1143. Copies of the previous evaluation findings, Management Plan, and Site Profile may be viewed and downloaded on the internet at http://coast.noaa.gov/czm/evaluations. A copy of the evaluation notification letter and most recent performance report may be obtained upon request by contacting Mr. Cantral via the contact information provided above.

SUPPLEMENTARY INFORMATION: Sections 312 and 315 of the Coastal Zone Management Act (CZMA) require NOAA to conduct periodic evaluations of federally-approved National Estuarine Research Reserves. The process includes a public meeting, consideration of written public comments, and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

You may participate and submit oral comments at the public meeting scheduled as follows:

Date: Wednesday, September 25, 2019.

Time: 5:00 p.m., local time.

Location: Rookery Bay Environmental Learning Center, 300 Tower Road, Naples, Florida 34113.

Written comments must be received on or before Friday, October 4, 2019.

Keelin Kuipers,
Deputy Director, Office for Coastal Management, National Ocean Service, National Oceanic and Atmospheric Administration.

[FR Doc. 2019-15564 Filed 7-22-19; 8:45 am]

BILLING CODE 3510-22-P